DEPARTMENT OF TRANSPORTATION

National Highway Traffic Safety Administration

[Docket No. NHTSA-2016-0072]

Meeting Notice—Federal Interagency Committee on Emergency Medical Services (FICEMS)

AGENCY: National Highway Traffic Safety Administration (NHTSA), U.S. Department of Transportation (U.S. DOT).

ACTION: Meeting notice—FICEMS.

SUMMARY: NHTSA announces a meeting of the FICEMS to be held in the Washington, DC area. This notice announces the date, time, and location of the meeting, which will be open to the public. Pre-registration is encouraged.

DATES: The meeting will be held on August 4, 2016, from 1 p.m. EDT to 3 p.m. EDT.

ADDRESSES: The meeting will be held at the Headquarters of the U.S. Department of Transportation, 1200 New Jersey Avenue SE., Washington, DC 20590, Oklahoma City Conference Room.

FOR FURTHER INFORMATION CONTACT: Gamunu Wijetunge, U.S. Department of Transportation, Office of Emergency Medical Services, National Highway Traffic Safety Administration, 1200 New Jersey Avenue SE., NPD-400, Washington, DC 20590, gamunu.wijetunge@dot.gov, or 202-493-2793.

SUPPLEMENTARY INFORMATION: Section 10202 of the Safe, Accountable, Flexible, Efficient Transportation Equity Act: A Legacy For Users (SAFETEA-LU), Public Law 109-59, provides that the FICEMS consist of several officials from Federal agencies as well as a State emergency medical services director appointed by the Secretary of Transportation.

Registration Information: This meeting will be open to the general public; however, pre-registration is highly encouraged to comply with security procedures. Members of the public wishing to attend should register online at http://www.cvent.com/d/2fqyqr no later than August 2, 2016. Please note that the information collected for registration, including full name, place of business, telephone number and email address, will be used solely for the purposes of providing registrants with access to the meeting site and to provide meeting materials to registrants via email when they become available.

A picture I.D. must be provided to enter the U.S. DOT Headquarters Building. It is suggested that visitors arrive 30 minutes early in order to facilitate entry. Attendees who are not United States citizens must produce a valid passport to enter the building. Please be aware that visitors to the U.S. DOT Headquarters Building are subject to search and must pass through a magnetometer. Weapons of any kind are strictly forbidden in the building unless authorized through the performance of the official duties of your employment (i.e., law enforcement officer). Federal staff will be in the lobby beginning at 12 p.m. EDT on the day of the meeting to escort members of the public to the meeting room.

Tentative Agenda: This meeting of the FICEMS will focus on addressing the requirements of SAFETEA-LU and the opportunities for collaboration among the key Federal agencies involved in emergency medical services. The tentative agenda includes:

• Technical Working Group (TWG) Committee Reports

• Strategic Planning Implementation Update

• EMS Data Standards and Exchange Committee Updates

• Preparedness Committee Updates

○ ACTION: Draft FICEMS interagency process for rapid coordination on health emergencies

○ Model Uniform Core Criteria for Mass Casualty Incident Triage (MUCC) Instructional Guidelines Pilot Update

• Evidence-based Practice and Quality Committee Updates

• Workforce and Veterans Credentialing Committee Updates

○ ACTION: Draft statement on responder mental health

• Safety Committee Updates

○ Update on EMS Safety and Health Safety Surveillance

• Update on the Revision of the EMS Agenda for the Future

• Opioid Overdose Epidemic Update

• Other Emerging Issues in EMS from Federal Agencies and Agency Updates

• A public comment period

There will not be a call-in number provided for this FICEMS meeting; however, minutes of the meeting will be available to the public online at www.EMS.gov. A final agenda and other meeting materials will be posted at http://www.ems.gov/ficems.html prior to the meeting.

Issued on: July 7, 2016.
Jeffrey P. Michael,
Associate Administrator, Research and Program Development.

[FR Doc. 2016-16566 Filed 7-12-16; 8:45 am]

BILLING CODE 4910-59-P